DEPARTMENT OF THE INTERIOR

Bureau of Land Management

[CA-930-5410-00-B211; CACA 47945]

Conveyance of Mineral Interests in California

AGENCY: Bureau of Land Management, Interior.

ACTION: Notice of segregation.

SUMMARY: An application has been filed for the conveyance of the Federally owned mineral interest in the tract of land described in this notice. Publication of this notice temporarily segregates the mineral interests in the public lands covered by the application from appropriation under the mining and mineral leasing laws while the application is being processed.

FOR FURTHER INFORMATION CONTACT: Kathy Gary, Bureau of Land Management, California State Office, 2800 Cottage Way, Sacramento, California 95825, (916) 978-4677.

Comments: Your comments are invited. Please submit all comments in writing to Kathy Gary at the address listed above. Comments, including names, street addresses, and other contact information of respondents, will be available for public review. Individual respondents may request confidentiality. If you wish to request that the BLM consider withholding your name, street address, and other contact information, e.g., Internet address, FAX or phone number, from public review of disclosure under the Freedom of Information Act, you must state this prominently at the beginning of your written comment. The BLM will honor requests for confidentiality on a case-by-case basis to the extent allowed by law. The BLM will make available for public inspection, in their entirety, all submissions from organizations and businesses, and from individuals identifying themselves as representatives or officials of organizations of businesses.

SUPPLEMENTARY INFORMATION: The tract of land referred to above in this notice consists of 160 acres of land, situated in Los Angeles County, and is described as follows:

San Bernardino Meridian, California

T.4 N., R.14 W.,

Sec, 4, SW¼NE¼, NE¼SW¼, S½SW¼,SE¼

Sec. 9, N½NE¼, SW¼NE¼

Under certain conditions, Section 209(b) of the Federal Land Policy and Management Act of 1976 authorizes the sale and conveyance of the Federally owned mineral interests in land when the non-mineral, or so-called “surface” interest in the land is not Federally owned. The objective is to allow consolidation of the surface and mineral interests when either one of the following conditions exist: (1) There are known mineral values in the land; or (2) where continued Federal ownership of the mineral interests interferes with or precludes appropriate non-mineral development and such development is a more beneificial use of the land than mineral development.

An application was filed for the sale and conveyance of the Federally owned mineral interest in the above-described tract of land. Publication of this notice segregates, subject to valid existing rights, the Federally owned mineral interests in the public lands referenced above in this notice from appropriation under the general mining and mineral leasing laws, while the application is being processed to determine if either one of the two specified conditions exists and, if so, to otherwise comply with the procedural requirements of 43 CFR Part 2720. The segregative effect shall terminate: (i) Upon issuance of a patent or other document of conveyance as to such mineral interests; (ii) upon final rejection of the application; or (iii) two years from the date of filing the application, whichever occurs first. (Authority: 43 CFR 2720.1-1(b)).

Dated: May 22, 2006.
Howard Stark,
Chief, Branch of Lands Management.
Editorial Note: This document was received at the office of the Federal Register on December 6, 2006.

[FR Doc. 06-9625 Filed 12-21-06; 8:45 am]

BILLING CODE 4310-40-M